DEPARTMENT OF JUSTICE

Notice of Filing of Proposed Settlement Agreement Under the Comprehensive Environmental Response, Compensation, and Liability Act Regarding Claims in Connection With the Findett/Hayford Bridge Road Groundwater Superfund Site

On September 28, 2022 the Department of Justice lodged a proposed Consent Decree with the United States District Court for the Eastern District of Missouri in the lawsuit entitled United States and the State of Missouri v. Union Electric Company d/b/a Ameren Missouri., Civil Action No. 22-cv-1038.

The proposed Consent Decree would resolve claims the United States and State of Missouri have brought pursuant to sections 106, 107(a), and 113(g) of the Comprehensive Environmental Response, Compensation, and Liability Act, 42 U.S.C. 9606, 9607(a), and 9613(g), as amended by the Superfund Amendments and Reauthorization Act of 1986 (“CERCLA”), and Section 260.530 of the Missouri Hazardous Waste Management Law, Mo. Rev. Stat. § 260.530, regarding the Findett/Hayford Bridge Road Groundwater Superfund Site Operable Unit 4 (“OU4”).

Under the Settlement Agreement, Union Electric Company d/b/a Ameren (“Ameren”) will perform response actions at the Site pursuant to the June 30, 2021 Record of Decision, and pay oversight costs. In exchange, the United States and the State will provide covenants not to sue or to take administrative action against Ameren pursuant to Sections 106 and 107(a) of CERCLA, 42 U.S.C. 9606 and 9607(a), and Mo. Rev. Stat. §§ 260.510 and 260.530, with regard to the Site.

The publication of this notice opens a period for public comment on the Settlement Agreement. Comments should be addressed to the Assistant Attorney General, Environment and Natural Resources Division, and should refer to United States and the State of Missouri v. Union Electric Company d/b/a Ameren Missouri, 22-cv-1038, D.J. Ref. No. 90-11-2-417/6. All comments must be submitted no later than thirty (30) days after the publication date of this notice. Comments may be submitted either by email or by mail:

To submit comments: | Send them to:
By email | pubcomment-ees.enrd@usdoj.gov.
By mail | Assistant Attorney General, U.S. DOJ—ENRD, P.O. Box, 7611Washington, DC 20044-7611.

During the public comment period, the Settlement Agreement may be examined and downloaded at this Justice Department website: https://www.justice.gov/enrd/consent-decrees. Alternatively, a paper copy of the Settlement Agreement will be provided upon written request and payment of reproduction costs. Please mail your request and payment to: Consent Decree Library, U.S. DOJ—ENRD, P.O. Box 7611, Washington, DC 20044-7611.

Please enclose a check or money order for $34.75 for the Consent Decree and appendices, and $8 for only the Consent Decree without appendices (25 cents per page reproduction cost) payable to the United States Treasury.

Susan Akers,
Assistant Section Chief, Environmental Enforcement Section, Environment and Natural Resources Division.

[FR Doc. 2022-21467 Filed 10-3-22; 8:45 am]

BILLING CODE 4410-15-P